GENERAL SERVICES ADMINISTRATION

41 CFR Chapter 301

[FTR Amendment 94]

RIN 3090-AH28

Federal Travel Regulation; Maximum Per Diem Rates

AGENCY: Office of Governmentwide Policy, GSA.

ACTION: Final rule; correction.

SUMMARY: This document corrects entries listed in the prescribed maximum per diem rates for locations within the continental United States (CONUS) contained in a final rule appearing in Part IV of the Federal Register of Friday, September 1, 2000 (65 FR 53472).

EFFECTIVE DATE: October 1, 2000.

FOR FURTHER INFORMATION CONTACT: Joddy P. Garner, Office of Governmentwide Policy (MTT), Washington, DC 20405, telephone 202-501-4857.

SUPPLEMENTARY INFORMATION: In rule document 00-22077 beginning on page 53472 in the issue of Friday, September 1, 2000, make the following corrections:

Appendix A to Chapter 301—[Corrected]

1. On page 53477, under the State of Florida, city of Ocala, column two (County and/or other defined location) is corrected to read “Marion”.

2. On page 53482, under the State of New Jersey, city of Edison, column two (County and/or other defined location) is corrected to read “Middlesex (except Piscataway)”.

3. On page 53482, under the State of New Jersey, cities of Piscataway/Belle Mead, column two (County and/or other defined location) is corrected to read “Somerset; and City limits of Piscataway”.

4. On page 53483, under the State of New York, city of Monroe, column two (County and/or other defined location) is corrected to read “Orange (except West Point)”.

5. On page 53484, under the State of North Carolina, city of New Bern, column two (County and/or other defined location) is corrected to read “City limits of New Bern”.

6. On page 53485, under the State of Rhode Island, a new entry is added prior to the city of East Greenwich, to read (column one) “Block Island”; (column two) “Block Island only”; (column three) “55”; (column four) “30”; (column five) “85”.

7. On page 53485, under the State of Rhode Island, city of Newport, column two (County and/or other defined location) is corrected to read “Newport (except Block Island)”.

8. On page 53485, under the State of Rhode Island, city of North Kingstown, column two (County and/or other defined location) is corrected to read “Washington”.

9. On page 53487, under the State of Virginia, city of Virginia Beach, the seasonal dates in column one are corrected to read “(April 1-October 31) (November 1-March 31)”.

10. On page 53488, under the State of Wisconsin, city of Sheboygan, column two (County and/or other defined location) is corrected to read “Sheboygan”.

Pages 53477, 53482, 53483, 53484, 53485, 53487, and 53488, as corrected, read as follows:

Appendix A to Chapter 301—Prescribed Maximum Per Diem Rates for CONUS

* * * * *

BILLING CODE 6820-34-P

* * * * *

Dated: October 11, 2000.
William T. Rivers,
Director, Travel Management Policy.

[FR Doc. 00-26619 Filed 10-18-00; 8:45 am]

BILLING CODE 6820-34-C